DEPARTMENT OF LABOR

Employment and Training Administration

[TA-W-58,045]

Lexel Company Including On-Site Leased Workers of Westaff, Inc., Hutsonville, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 6, 2005, applicable to workers of Lexel Company, including on-site leased workers of Westaff, Inc., Hutsonville, Illinois. The notice was published in the Federal Register on December 21, 2005 (70 FR 75845).

At the request of the State agency, the Department reviewed the certification for workers of the subject firm. The workers were engaged in the production of small electric motors (fractional H.P. electrical motors).

A previous certification, TA-W-52,202, was issued on August 7, 2003, for workers of Lexel Company, Hutsonville, Illinois which did not include on-site leased workers of Westaff, Inc. That certification expired August 7, 2005. This certification is being amended to change the impact date for workers of Westaff, Inc., from August 8, 2005 to September 28, 2004 (one year prior to the September 28, 2005 petition date). The impact date for workers of Lexel Company remains August 8, 2005.

Accordingly, the Department is amending the certification to properly reflect this matter.

The intent of the Department's certification is to clarify the period of eligibility to apply for all workers of Lexel Company, including on-site leased workers of Westaff, Inc., Hutsonville, Illinois, who were adversely affected by increased customer imports.

The amended notice applicable to TA-W-58,045 is hereby issued as follows:

All workers of Lexel Company, Hutsonville, Illinois who became totally or partially separated from employment on or after August 8, 2005 through December 6, 2007, and including on-site leased workers of Westaff, Inc. at the Hutsonville site who became totally or partially separated from employment on or after September 28, 2004 through December 6, 2007, are eligible to apply for adjustment assistance under Section 223 of the Trade Act of 1974, and are also eligible to apply for alternative trade adjustment assistance under Section 246 of the Trade Act of 1974.

Signed at Washington, DC this 16th day of February, 2006.
Richard Church,
Certifying Officer, Division of Trade Adjustment Assistance.

[FR Doc. E6-2975 Filed 3-1-06; 8:45 am]

BILLING CODE 4510-30-P